DEPARTMENT OF COMMERCE

Foreign-Trade Zones Board

[Docket 19-2009]

Foreign-Trade Zone 20—Hampton Roads, Virginia, Area, Application for Reorganization/Expansion

An application has been submitted to the Foreign-Trade Zones Board (the Board) by the Virginia Port Authority, grantee of FTZ 20, requesting authority to reorganize and expand the zone project within the Norfolk Customs and Border Protection port of entry. The application was submitted pursuant to the provisions of the Foreign-Trade Zones Act, as amended (19 U.S.C. 81a-81u), and the regulations of the Board (15 CFR part 400). It was formally filed on April 28, 2009.

FTZ 20 was approved on April 15, 1975 (Board Order 105, 40 FR 17884, 4/23/75); relocated on January 17, 1977 (Board Order 114, 42 FR 4187, 1/24/77), and on March 16, 1981 (Board Order 173, 46 FR 18063, 3/23/81); and, expanded on May 8, 1997 (Board Order 887, 62 FR 28446, 5/23/97), on July 28, 2000 (Board Order 1113, 65 FR 50179, 8/17/00), and on April 5, 2001 (Board Order 1163, 66 FR 20235, 4/20/01).

The zone project consists of eighteen sites (10,119 acres total) in the Hampton Roads area: Site 1 (22 acres)—located at 215 Suburban Drive, Suffolk; Site 2 (10 acres)—located at 324 Moore Avenue, Suffolk; Site 3 (30 acres total, 4 parcels) —within the Greenbrier Industrial Park at 630 Woodlake Drive, 1720 S. Military Highway, 575 Woodlake Circle and 570 Woodlake Circle, Chesapeake; Site 4 (905 acres)—Norfolk International Terminals, 7737 Hampton Boulevard, Norfolk; Site 5 (242 acres)—Portsmouth Marine Terminal, 2000 Seaboard Avenue, Portsmouth; Site 6 (184 acres)—Newport News Marine Terminal, 25th & Warwick Boulevard, Newport News; Site 7 (490 acres total, 6 parcels)—Warren County Industrial Corridor, Routes 340, 522 and 661, Front Royal; Site 8 (372 acres)—Bridgeway Commerce Park, Interstate 664, Suffolk; Site 9 (672 acres)—Cavalier Industrial Park, Interstate 64 and U.S. Route 13, Chesapeake; Site 10 (26 acres)—D.D. Jones Transfer & Warehouse, Inc., 1920 Campostella Road, Chesapeake; Site 11 (177 acres)—New Boone Farm Industrial Park, Interstate 664, Chesapeake; Site 12 (60 acres)—PortCentre Commerce Park, Route 264, Portsmouth; Site 13 (154 acres)—Suffolk Industrial Park, 595 Carolina Road, Suffolk; Site 14 (6,187 acres total, 2 parcels)—Goddard Space Flight Center-Wallops Flight Facility, Accomack County; Site 15 (449 acres)—Accomack Airport Industrial Park, U.S. Highway 13 & Parkway Road, Melfa; Site 16 (5 acres)— within the Battlefield Lakes Technical Center, 525 & 533 Byron Street, Norfolk; Site 17 (4 acres)—within the Butts Station Commerce Center, 600, 604 and 608 Greentree Road, Chesapeake; and, Site 18 (130 acres)—within the 579-acre Port of Cape Charles Sustainable Technologies Industrial Park, two miles from U.S. 13 on SR 1108, Bayshore Drive.

The applicant is now requesting authority for a reorganization and expansion of the zone, which includes both additions and deletions with an overall increase of 639 acres in total zone space as described below:

—Existing Site 3—modify to reinstate acreage at Parcels 1 and 3 removed through administrative actions and expand to include additional acreage at Parcels 2 and 4 and to include two new parcels located at 551 Woodlake Circle (Parcel 5) and 575B Woodlake Circle (Parcel 6) (new total acreage—72 acres);

—Existing Site 8—modify to remove 239 acres due to changed circumstances (new total acreage—133 acres);

—Existing Site 9—modify to reinstate acreage removed through administrative action (new total acreage—689 acres);

—Proposed Site 19 (323 acres)—Shirley T. Holland Commerce Park, 25400 Old Mill Road, Windsor;

—Proposed Site 20 (72 acres)—Commerce Center Hampton Roads, 150 Judkins Court, Suffolk;

—Proposed Site 21 (85 acres)—Virginia Regional Commerce Park, 2930 Pruden Boulevard, Suffolk;

—Proposed Site 22 (18 acres)—Port Norfolk Holdings, LLC, warehouse located at 1157 Production Road, Norfolk, within the Norfolk Industrial Park;

—Proposed Site 23 (101 acres)—Virginia Commerce Center, 351 Kenyon Road, Suffolk; and,

—Proposed Site 24 (220 acres)—Westport Commerce Center located on Manning Bridge Road, Suffolk.

The sites will provide warehousing and distribution services to area businesses. No specific manufacturing authority is being requested at this time. Such requests would be made to the Board on a case-by-case basis.In accordance with the Board's regulations, Camille Evans of the FTZ staff is designated examiner to investigate the application and report to the Board.

Public comment is invited from interested parties. Submissions (original and 3 copies) shall be addressed to the Board's Executive Secretary at the address below. The closing period for their receipt is July 6, 2009. Rebuttal comments in response to material submitted during the foregoing period may be submitted during the subsequent 15-day period to July 20, 2009.

A copy of the application will be available for public inspection at the Office of the Executive Secretary, Foreign-Trade Zones Board, Room 2111, U.S. Department of Commerce, 1401 Constitution Avenue NW, Washington, DC 20230-0002, and in the “Reading Room” section of the Board's website, which is accessible via www.trade.gov/ftz. For further information, contact Camille Evans at Camille_Evans@ita.doc.gov or (202) 482-2350.

Dated: April 28, 2009.
Andrew McGilvray,
Executive Secretary.

[FR Doc. E9-10495 Filed 5-5-09; 8:45 am]

BILLING CODE 3510-DS-S